DEPARTMENT OF ENERGY

Federal Energy Regulatory Commission

Combined Notice of Filings #2

Take notice that the Commission received the following electric corporate filings:

Docket Numbers: EC17-65-000.

Applicants: Homer City Generation, L.P.

Description: Application for Authorization Under Section 203 of the Federal Power Act for Disposition of Jurisdictional Facilities and Request for Expedited Consideration of Homer City Generation, L.P.

Filed Date: 1/23/17.

Accession Number: 20170123-5253.

Comments Due: 5 p.m. ET 2/13/17.

Docket Numbers: EC17-66-000.

Applicants: Lease Plan North America, LLC.

Description: Application for Authorization Under Section 203 of the Federal Power Act, Requests for Confidential Treatment and Waivers, and Request for Expedited Consideration of Lease Plan North America, LLC.

Filed Date: 1/23/17.

Accession Number: 20170123-5255.

Comments Due: 5 p.m. ET 2/13/17.

Take notice that the Commission received the following electric rate filings:

Docket Numbers: ER11-4453-001.

Applicants: Santanna Natural Gas Corporation.

Description: Notice of Material Change in Status of Santanna Natural Gas Corporation.

Filed Date: 1/23/17.

Accession Number: 20170123-5153.

Comments Due: 5 p.m. ET 2/13/17.

Docket Numbers: ER16-2071-001.

Applicants: Innovative Solar 43, LLC.

Description: Compliance filing: Innovative Solar 43, LLC MBR Tariff to be effective 6/30/2016.

Filed Date: 1/23/17.

Accession Number: 20170123-5263.

Comments Due: 5 p.m. ET 2/13/17.

Docket Numbers: ER16-2241-003; ER16-2275-003; ER16-2276-003.

Applicants: Ninnescah Wind Energy, LLC, Kingman Wind Energy I, LLC, Kingman Wind Energy II, LLC.

Description: Notice of Non-Material Change in Status of Ninnescah Wind Energy, LLC, et al.

Filed Date: 1/19/17.

Accession Number: 20170119-5213.

Comments Due: 5 p.m. ET 2/9/17.

Docket Numbers: ER16-2412-003.

Applicants: Luning Energy LLC.

Description: Notice of Material Change in Status of Luning Energy LLC.

Filed Date: 1/23/17.

Accession Number: 20170123-5220.

Comments Due: 5 p.m. ET 2/13/17.

Docket Numbers: ER17-74-001.

Applicants: Western Interconnect LLC.

Description: Tariff Amendment: Response to Deficiency Letter to be effective 12/1/2016.

Filed Date: 1/23/17.

Accession Number: 20170123-5232.

Comments Due: 5 p.m. ET 2/13/17.

Docket Numbers: ER17-155-001.

Applicants: Lazarus Energy Holdings, LLC.

Description: Compliance filing: Name Revision for Lazarus Energy MBR Tariff to be effective 1/23/2017.

Filed Date: 1/23/17.

Accession Number: 20170123-5233.

Comments Due: 5 p.m. ET 2/13/17.

Docket Numbers: ER17-246-002.

Applicants: Dynegy Oakland, LLC.

Description: Tariff Amendment: Amended Filing—Request for Commission Action to be effective 1/1/2017.

Filed Date: 1/23/17.

Accession Number: 20170123-5202.

Comments Due: 5 p.m. ET 2/13/17.

Docket Numbers: ER17-827-000.

Applicants: Midcontinent Independent System Operator, Inc., Entergy Services, Inc.

Description: Compliance filing: 2017-01-23_Entergy Operating Companies Attachment O Compliance Filing to be effective 6/1/2015.

Filed Date: 1/23/17.

Accession Number: 20170123-5208.

Comments Due: 5 p.m. ET 2/13/17.

Docket Numbers: ER17-828-000.

Applicants: HL Power Company, A California Limited Partnership.

Description: Baseline eTariff Filing: Application for Market-Based Rate Authority to be effective 1/24/2017.

Filed Date: 1/23/17.

Accession Number: 20170123-5209.

Comments Due: 5 p.m. ET 2/13/17.

Docket Numbers: ER17-829-000.

Applicants: Public Service Company of Oklahoma.

Description: Updated Depreciation Rates for Public Service Company of Oklahoma.

Filed Date: 1/23/17.

Accession Number: 20170123-5226.

Comments Due: 5 p.m. ET 2/13/17.

Docket Numbers: ER17-830-000.

Applicants: New York Independent System Operator, Inc.

Description: § 205(d) Rate Filing: 205 revisions to interconnection procedures in OATT Atts S and X to be effective 2/22/2017.

Filed Date: 1/23/17.

Accession Number: 20170123-5236.

Comments Due: 5 p.m. ET 2/13/17.

Docket Numbers: ER17-831-000.

Applicants: Black Hills Power, Inc.

Description: § 205(d) Rate Filing: Amended GDEMA with Black Hills/Colorado Electric Utility Company, L.P. to be effective 3/25/2017.

Filed Date: 1/23/17.

Accession Number: 20170123-5242.

Comments Due: 5 p.m. ET 2/13/17.

Docket Numbers: ER17-832-000.

Applicants: Black Hills Power, Inc.

Description: § 205(d) Rate Filing: Amended GDEMA with Black Hills Wyoming to be effective 3/25/2017.

Filed Date: 1/23/17.

Accession Number: 20170123-5245.

Comments Due: 5 p.m. ET 2/13/17.

Docket Numbers: ER17-833-000.

Applicants: Black Hills Power, Inc.

Description: § 205(d) Rate Filing: Amended GDEMA with Cheyenne Light, Fuel and Power Company to be effective 3/25/2017.

Filed Date: 1/23/17.

Accession Number: 20170123-5249.

Comments Due: 5 p.m. ET 2/13/17.

Docket Numbers: ER17-834-000.

Applicants: NRG Energy, Inc., NRG Curtailment Solutions, Inc.

Description: Request for Limited Tariff Waiver of NRG Curtailment Solutions, Inc.

Filed Date: 1/23/17.

Accession Number: 20170123-5250.

Comments Due: 5 p.m. ET 2/13/17.

Docket Numbers: ER17-835-000.

Applicants: Southwest Power Pool, Inc.

Description: § 205(d) Rate Filing: Schedule 2 Clarifications to be effective 3/24/2017.

Filed Date: 1/23/17.

Accession Number: 20170123-5262.

Comments Due: 5 p.m. ET 2/13/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2017.
Nathaniel J. Davis, Sr.,
Deputy Secretary.

[FR Doc. 2017-01915 Filed 1-27-17; 8:45 am]

BILLING CODE 6717-01-P